DEPARTMENT OF COMMERCE

National Oceanic and Atmospheric Administration

[RIN 0648-XD964]

Council Coordination Committee Meeting

AGENCY: National Marine Fisheries Service (NMFS), National Oceanic and Atmospheric Administration (NOAA), Commerce.

ACTION: Notice of public meeting.

SUMMARY: The Gulf of Mexico Fishery Management Council (GMFMC) will host a meeting of the Council Coordination Committee (CCC) consisting of eight Regional Fishery Management Council (RFMC) chairs, vice chairs, and executive directors and its subcommittees in June 2015. The intent of this meeting is to discuss issues of relevance to the Councils, including: Budget issues, MSA reauthorization, National Standard 1, Bycatch Strategy, Presidential Task Force on Illegal, Unreported, and Unregulated (IUU) catches, NEPA, allocation working group report, Council Operational Guidelines, recreational fishery issues, habitat working group report, enforcement activities, other topics of concern to the RFMC, and decisions and follow-up activities.

DATES: The meeting will be held June 22-25, 2015. Registration for the meeting will begin at 2 p.m. on Monday June 22, 2015. The meeting will begin at 9:30 a.m. on Tuesday, June 23, 2015 and recess at 5:15 p.m. or when business is complete. The meeting will reconvene at 8:30 a.m. on Wednesday, June 24, 2015 and recess at 5:30 p.m. or when business is complete. The meeting will reconvene on the final day at 8:30 a.m. on Thursday, June 25, 2015 and adjourn by 12 noon or when business is complete.

ADDRESSES:

Meeting address: The meeting will be held at the Marriott Beachside Hotel, 3841 North Roosevelt Boulevard, Key West, FL 33040; telephone: (305) 296-8100.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The Magnuson-Stevens Fishery Conservation (MSA) and Management Reauthorization Act (MSRA) established the CCC by amending section 302 (16 U.S.C. 1852) of the MSA. The committee consists of the chairs, vice chairs, and executive directors of each of the eight Regional Fishery Management Councils authorized by the MSA or other Council members or staff. GMFMC will host this meeting and provide reports to the CCC for its information and discussion. All sessions are open to the public. NMFS or other Council items of discussion for each individual management committee agenda are as follows:

Agenda

Tuesday, June 23, 2015; 9:30 a.m.-5:15 p.m.

• Welcome and Introductions

• Budgets: 2016 Budget/Saltonstall-Kennedy Grants; National Observer Funding Allocation; Joint Enforcement Agreements

• MSA Reauthorization: Legislative Updates; CCC Discussion on working group report and actions

• National Standard 1: Individual Council Comments; Update & Approval of Draft Letter

• Bycatch Strategy

—Adjourn for the day

Wednesday, June 24, 2015; 8:30 a.m.-5:30 p.m.

• Presentations: Marine Resource Education Program; American Fisheries Society; Social Scientists in RFM Report

• Presidential Task Force on IUU

• NEPA Working Group Report: CCC White Paper; Revised MSA NEPA Procedures

• Allocation Working Group Report: CCC Guidelines; NMFS Guidelines

• Operational Guidelines

• Cooperative Research & Management

• Recreational Fishery Issues: Recreational Fishery Policy; Marine Recreational Information Program

—Adjourn for the day

Thursday, June 25, 2015; 8:30 a.m.-12 noon

• Habitat Working Group Report: Proposed 2016 Habitat Summit

• Assessment Prioritization Update

• International Affairs/Seafood Inspection

• SSC Issues: National SSC V Workshop Report; Next Meeting (location/year)

• 2016 CCC Meetings

• Other Business & Wrap-up

—Meeting Adjourns

The timing and order in which agenda items are addressed may change as required to effectively address the issues. The CCC will meet as late as necessary to complete scheduled business.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: May 26, 2015.
Emily H. Menashes,
Acting Director, Office of Sustainable Fisheries, National Marine Fisheries Service.

[FR Doc. 2015-13087 Filed 5-29-15; 8:45 am]

BILLING CODE 3510-22-P